DEPARTMENT OF LABOR

Mine Safety and Health Administration

Petitions for Modification

The following parties have filed petitions to modify the application of existing safety standards under section 101(c) of the Federal Mine Safety and Health Act of 1977.

1. Freeman United Coal Mining Company

[Docket No. M-2002-125-C]

Freeman United Coal Mining Company, P.O. Box 4630, Springfield, Illinois 62708 has filed a petition to modify the application of 30 CFR 75.1101-8(a) (Water sprinkler system; arrangement of sprinklers) at its Crown III Mine (MSHA I.D. No. 11-02632) located in Montgomery County, Illinois. The petitioner proposes to provide a fireproof electrical enclosure and fire detection system in lieu of a sprinkler over the electrical control. The petitioner states that the Crown III Mine is a large underground mine employing three operating sections to develop entrees and rooms with remote control continuous miners and the belt system utilizes ten belt drives. The petitioner further states that: (i) The belt drives and electrical controls are ventilated with isolated intake air; (ii) the electrical control boxes do not contain flammable fluids or other flammable products and are fully enclosed with fireproof construction and are located at least two-feet from coal or other combustible material; and (iii) the electrical cables will conform with the requirements of part 18, and a heat sensor or CO monitor will be installed near the electrical control box. The petitioner asserts that the proposed alternative method would provide at least the same measure of protection as the existing standard.

2. Remington Coal Company, Inc.

[Docket No. M-2003-004-C]

Remington Coal Company, Inc., 430 Harper Park Drive, Beckley, West Virginia 25801 has filed a petition to modify the application of 30 CFR 75.1002-1 (Location of other electric equipment; requirements for permissibility) at its Stockburg No. 1 Mine (MSHA I.D. No. 46-08634) located in Kanawha County, West Virginia. The petitioner requests a modification of the existing standard to permit the use a 2,400 volt Joy 14CM27 continuous mining machine instead of the 2,400 volt Joy 12CM27 continuous mining machine currently being used at the Stockburg No. 1 Mine. The petitioner has listed in this petition specific procedures that would be followed when implementing this alternative method. The petitioner asserts that the proposed alternative method would provide at least the same measure of protection as the existing standard.

3. Dakota Westmoreland Corporation

[Docket No. M-2003-005-C]

Dakota Westmoreland Corporation, P.O. Box 39, Beulah, North Dakota 58523-0039 has filed a petition to modify the application of 30 CFR 77.405(b) (Performing work from a raised position; safeguards) at its Beulah Mine (MSHA I.D. No. 32-00043) located in Mercer County, North Dakota. The petitioner requests a modification of the existing standard to allow an alternative method to permit its boom/mast machine to be raised or lowered during initial dragline assembly or disassembly at construction sites. The petitioner proposes to raise or lower the boom/mast into position by using the on-board motor generator sets during assembly or disassembly of the draglines. The petitioner states that during construction, the machine will not move under its own power and will not perform mining operations. The procedure would be applicable only in instances of disassembly or major maintenance which require the boom to be raised or lowered and a written procedure would be developed and implemented by the mine operator or contractor, and the affected persons who have been trained on the requirements of the procedure. The petitioner also states that this procedure would only address installing/removing the booms on draglines utilizing the machines electrical on-board motor generator sets. The petitioner further states that this procedure does not replace other mechanical precautions or the requirements of the existing standard that is necessary to safely secure booms/masts during construction or maintenance procedures. The petitioner asserts that its proposed alternative method would not result in a diminution of safety to the miners but would provide at least the same measure of protection as the existing standard.

Request for Comments

Persons interested in these petitions are encouraged to submit comments via e-mail to comments@msha.gov, or on a computer disk along with an original hard copy to the Office of Standards, Regulations, and Variances, Mine Safety and Health Administration, 1100 Wilson Boulevard, Room 2352, Arlington, Virginia 22209. All comments must be postmarked or received in that office on or before March 6, 2003. Copies of these petitions are available for inspection at that address.

Dated at Arlington, Virginia, this 30th day of January, 2003.
Marvin W. Nichols, Jr.,
Director, Office of Standards, Regulations, and Variances.

[FR Doc. 03-2598 Filed 2-3-03; 8:45 am]

BILLING CODE 4510-43-P